COMMITTEE FOR PURCHASE FROM PEOPLE WHO ARE BLIND OR SEVERELY DISABLED

Procurement List Proposed Deletions

AGENCY: Committee for Purchase From People Who Are Blind or Severely Disabled.

ACTION: Proposed deletions from Procurement List.

SUMMARY: The Committee is proposing to delete products previously furnished by nonprofit agencies employing persons who are blind or have other severe disabilities.

Comments Must Be Received On or Before: November 30, 2008.

ADDRESSES: Committee for Purchase From People Who Are Blind or Severely Disabled, Jefferson Plaza 2, Suite 10800, 1421 Jefferson Davis Highway, Arlington, Virginia, 22202-3259.

For Further Information or To Submit Comments Contact: Kimberly M. Zeich, Telephone: (703) 603-7740, Fax: (703) 603-0655, or e-mail CMTEFedReg@AbilityOne.gov.

SUPPLEMENTARY INFORMATION: This notice is published pursuant to 41 U.S.C 47(a) (2) and 41 CFR 51-2.3. Its purpose is to provide interested persons an opportunity to submit comments on the proposed actions.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the product(s) and/or service(s) to the Government.

3. There are no known regulatory alternatives which would accomplish the objectives of the Javits-Wagner-O'Day Act (41 U.S.C. 46-48c) in connection with the products proposed for deletion from the Procurement List.

End of Certification

The following products are proposed for deletion from the Procurement List:

Products:

Clipboard Folder, Recycled

NSN: 7520-01-484-1746—Clipboard Folder, Recycled

NPA: Industries of the Blind, Inc., Greensboro, NC

Contracting Activity: GSA/FSS OFC SUP CTR—Paper Products, New York, NY

EcoLab Water Soluble Cleaners/Detergents

NSN: 7930-01-436-8012—EcoLab Water Soluble Cleaners/Detergents

NPA: Assoc f/t Blind&Visually Impaired & Goodwill Ind. of Greater Rochester, Rochester, NY

Contracting Activity: GSA/FAS Southwest Supply Center (QSDAC), Fort Worth, TX

Kimberly M. Zeich,
Deputy Executive Director.

[FR Doc. E8-26042 Filed 10-30-08; 8:45 am]

BILLING CODE 6353-01-P